DEPARTMENT OF ENERGY

Federal Energy Regulatory Commission

Combined Notice of Filings #2

Take notice that the Commission received the following electric rate filings:

Docket Numbers: ER10-2601-001; ER10-2605-003.

Applicants: Power Resources, Ltd., Yuma Cogeneration Associates.

Description: Notification of Changes in Status of Power Resources, Ltd., et al.

Filed Date: 8/28/12.

Accession Number: 20120828-5072.

Comments Due: 5 p.m. ET 9/18/12.

Docket Numbers: ER11-4267-002; ER11-4270-002; ER11-4269-003; ER11-4268-002; ER11-113-003; ER10-2682-002.

Applicants: Algonquin Northern Maine Gen Co., Algonquin Tinker Gen Co., Algonquin Power Windsor Locks LLC, Algonquin Energy Services Inc., Sandy Ridge Wind, LLC, Granite State Electric Company.

Description: Notice of Change in Status of Algonquin Energy Services Inc., et al.

Filed Date: 8/28/12.

Accession Number: 20120828-5071.

Comments Due: 5 p.m. ET 9/18/12.

Docket Numbers: ER12-2430-001.

Applicants: AP&G Holdings LLC.

Description: Amendment to pending baseline filing 1 to be effective 8/10/2012.

Filed Date: 8/28/12.

Accession Number: 20120828-5001.

Comments Due: 5 p.m. ET 9/18/12.

Docket Numbers: ER12-2529-000.

Applicants: KODE Novus II, LLC.

Description: KODE Novus II LLC MBR Application to be effective 10/27/2012.

Filed Date: 8/28/12.

Accession Number: 20120828-5040.

Comments Due: 5 p.m. ET 9/18/12.

Docket Numbers: ER12-2530-000.

Applicants: Southwest Power Pool, Inc.

Description: 2028R3 Sunflower Electric Power Corporation NITSA NOA to be effective 8/1/2012.

Filed Date: 8/28/12.

Accession Number: 20120828-5053.

Comments Due: 5 p.m. ET 9/18/12.

Docket Numbers: ER12-2531-000.

Applicants: ISO New England Inc., Central Maine Power Company.

Description: Kibby Wind Power Large Generator Interconnection Agreement to be effective 8/31/2012.

Filed Date: 8/28/12.

Accession Number: 20120828-5066.

Comments Due: 5 p.m. ET 9/18/12.

Docket Numbers: ER12-2532-000.

Applicants: ISO New England Inc., Central Maine Power Company.

Description: Sisk Wind Power Large Generator Interconnection Agreement to be effective 8/31/2012.

Filed Date: 8/28/12.

Accession Number: 20120828-5068.

Comments Due: 5 p.m. ET 9/18/12.

Docket Numbers: ER12-2533-000.

Applicants: KODE Novus I, LLC.

Description: Filing of Shared Facilities Agreement to be effective 4/27/2012.

Filed Date: 8/28/12.

Accession Number: 20120828-5073.

Comments Due: 5 p.m. ET 9/18/12.

Docket Numbers: ER12-2534-000.

Applicants: Southwestern Public Service Company.

Description: 8-28-12_RS145 SPS-LCEC Gen Agreement to be effective 9/1/2012.

Filed Date: 8/28/12.

Accession Number: 20120828-5079.

Comments Due: 5 p.m. ET 9/18/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 28, 2012.
Nathaniel J. Davis, Sr.,
Deputy Secretary.

[FR Doc. 2012-21962 Filed 9-5-12; 8:45 am]

BILLING CODE 6717-01-P